DEPARTMENT OF VETERANS AFFAIRS

[OMB Control No. 2900-0587]

Agency Information Collection (Service Data Manual) Activities Under OMB Review

AGENCY: Office of Acquisition and Logistics, Department of Veterans Affairs.

ACTION: Notice.

SUMMARY: In compliance with the Paperwork Reduction Act (PRA) of 1995 (44 U.S.C. 3501-3521), this notice announces that the Office of Acquisition and Materiel Management, Department of Veterans Affairs, will submit the collection of information abstracted below to the Office of Management and Budget (OMB) for review and comment. The PRA submission describes the nature of the information collection and its expected cost and burden; it includes the actual data collection instrument.

DATES: Comments must be submitted on or before August 22, 2013.

ADDRESSES: Submit written comments on the collection of information through www.Regulations.gov; or to VA's OMB Desk Officer, OMB Human Resources and Housing Branch, New Executive Office Building, Room 10235, Washington, DC 20503 (202) 395-7316. Please refer to “OMB Control No. 2900-0587” in any correspondence.

FOR FURTHER INFORMATION OR A COPY OF THE SUBMISSION CONTACT: Crystal Rennie, Enterprise Records Service (005R1B), Department of Veterans Affairs, 810 Vermont Avenue NW., Washington, DC 20420, (202) 632-7492 or email: crystal.rennie@va.gov. Please refer to “OMB Control No. 2900-0587.”

SUPPLEMENTARY INFORMATION: Title: Veterans Affairs Acquisition Regulation (VAAR) Clause 852.211-70, Service Data Manual.

OMB Control Number: 2900-0587.

Type of Review: Revision of a currently approved collection.

Abstract: VAAR clause 852.211-70, Service Data Manual, requires a contractor to furnish both operator's manuals and maintenance/repair manuals when technical medical equipment and devices, or mechanical equipment are provided to VA. This clause sets forth those requirements and the minimum standards the manuals must meet to be acceptable. The operator's manual will be used by the individual operating the equipment to ensure proper operation and cleaning and the maintenance/repair manual will be used by VA equipment repair staff.

An agency may not conduct or sponsor, and a person is not required to respond to a collection of information unless it displays a currently valid OMB control number. The Federal Register Notice with a 60-day comment period soliciting comments on this collection of information was published on April 15, 2013, at pages 22637-22368.

Affected Public: Business or other for profit and not-for-profit institutions.

Estimated Annual Burden: 621 hours.

Estimated Average Burden per Respondent: 10 minutes.

Frequency of Response: On occasion.

Estimated Number of Respondents: 3,725.

Dated: July 18, 2013.
By direction of the Secretary.
Crystal Rennie,
VA Clearance Officer, U.S. Department of Veterans Affairs.

[FR Doc. 2013-17653 Filed 7-22-13; 8:45 am]

BILLING CODE 8320-01-P